DEPARTMENT OF JUSTICE

Notice of Lodging of Consent Degree Pursuant to the Comprehensive Environmental Response, Compensation, and Liability Act

Notice is hereby given that on March 30, 2000, a proposed Consent Decree in United States, et al. v. 745 Property Investments, Inc. et al., No. 00-1215-Civ-Seitz (S.D. Fla.), was lodged on March 31, 2000 with the United States District Court for the Southern District of Florida.

In this action the United States sought performance of work, and recovery of costs incurred by the United States Environmental Protection Agency, in connection with responding to the release and threatened release of hazardous substances at the Anodyne National Priorities List Site in Miami, Florida. The consent decree resolves all claims brought against defendants 745 Property Investments, Inc., Floyd Abramson and Julius Golding the partners of the, G.D.W. Partnership, Ltd., and Prudential Insurance Company of America (collectively, the “settlers”).

The proposed consent decree provides that the settlers will perform the Zone 1 soils excavation and monitoring program required by the Record of Decision for the site, pay for up to $100,000 of EPA's oversight of that portion of the remedial action, to pay all of EPA's other Future Response Costs in connection with the Consent Decree, and to pay $35,704.56 for Past Costs, to resolve their liability to the United States for response costs as described above. The proposed consent decree includes a covenant not to sue by the United States under Sections 106 and 107 of CERCLA, 42 U.S.C. 9606 and 9607, for the entire Site (Zones 1 and 2), including all past and future costs.

The Department of Justice will receive, for a period of thirty (30) days from the date of this publication, comments relating to the proposed consent decrees. Comments should be addressed to the Assistant Attorney General for the Environment and Natural Resources Division, Department of Justice, P.O. Box 7611, Washington, D.C. 20044-7611, and should refer to United States, et al. v. 745 Property Investments, Inc. et al., No. 00-0215-Civ-Seitz (S.D. Fla.), DOJ Ref. #90-11-2-881/1.

The proposed consent decrees may be examined at the office of the United States Attorney, Southern District of Florida, 99 N.E. 4th Street, Miami, Florida 33132, (305) 961-9329; the Region 4 Office of the Environmental Protection Agency, 61 Forsyth Street, S.W., Atlanta, GA 30303-8960. A copy of the proposed Consent Decree may also be obtained by mail from the Consent Decree Library, Department of Justice, P.O. Box 7611, Washington, D.C. 20044-7611. In requesting copies please refer to the referenced case and enclose a check in the amount of $67.00 (25 cents per page reproduction costs), payable to the Consent Decree Library.

Walker Smith,
Deputy Chief, Environmental Enforcement Section, Environmental and Natural Resources Division.

[FR Doc. 00-11045 Filed 5-2-00; 8:45 am]

BILLING CODE 4470-15-M